FEDERAL COMMUNICATIONS COMMISSION

[OMB 3060-0325]

Information Collection Being Reviewed by the Federal Communications Commission Under Delegated Authority

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid Office of Management and Budget (OMB) control number. No person shall be subject to any penalty for failing to comply with a collection of information subject to the PRA that does not display a valid OMB control number.

DATES: Written comments should be submitted on or before January 13, 2020. If you anticipate that you will be submitting comments but find it difficult to do so within the time period allowed by this notice, you should advise the contacts below as soon as possible.

ADDRESSES: Direct all PRA comments to Cathy Williams, FCC, via email PRA@fcc.gov and to Cathy.Williams@fcc.gov.

FOR FURTHER INFORMATION CONTACT: For additional information, contact Cathy Williams at (202) 418-2918.

SUPPLEMENTARY INFORMATION: OMB Control No.: 3060-0325.

Title: Section 80.605, U.S. Coast Guard Coordination.

Form No.: Not applicable.

Type of Review: Extension of a currently approved collection.

Respondents: Business or other for-profit entities.

Number of Respondents and Responses: 10 respondents and 10 responses.

Estimated Time per Response: 1.1 hours.

Frequency of Response: On occasion reporting requirement and Third party disclosure requirement.

Obligation to Respond: Required to obtain or retain benefits. The statutory authority for this collection of information is contained in Sections 4, 303, 307(e), 309, and 332, 48 Stat. 1066, as amended; 47 U.S.C. 154, 303, 307(e), 309, and 332, unless otherwise noted.

Total Annual Burden: 11 hours.

Annual Cost Burden: None.

Privacy Act Impact Assessment: No impact(s).

Nature and Extent of Confidentiality: There is no need for confidentiality with this collection of information.

Needs and Uses: The information collection requirements contained in Section 80.605 are necessary because applicants are required to obtain written permission from the Coast Guard in the area where radio-navigation/radio-location devices are located. This rule insures that no hazard to marine navigation will result from the grant of applications for non-selectable transponders and shore based radio-navigation aids. The Coast Guard is responsible for making this determination under 14 U.S.C. 18. Section 308(b) of the Communications Act of 1934, as amended, 47 U.S.C. 308(b) mandates that the Commission have such facts before it to determine whether an application should be granted or denied. The potential hazard to navigation is a critical factor in determining whether this type of radio device should be authorized.

Federal Communications Commission.
Marlene Dortch,
Secretary.

[FR Doc. 2019-24663 Filed 11-13-19; 8:45 am]

BILLING CODE 6712-01-P